DEPARTMENT OF HEALTH AND HUMAN SERVICES

[Document Identifier: OS-0990-NEW; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Survey of Primary Care Physicians on Oral Health for the Office on Women's Health (OWH),—OMB No. 0990-NEW, Department of Health and Human Services (HHS).

Abstract: The Office on Women's Health (OWH) at the Department of Health and Human Services is requesting OMB approval to conduct a new, one time survey of primary care physicians regarding oral health. This survey will provide the agency with information on oral health knowledge, attitudes, and professional experience among practicing physicians throughout the U.S. The study will explore physicians' level of understanding of oral disease and what constitutes health for the oral cavity, oral health training and support needs, current practices and barriers to further involvement. OWH is requesting two years of OMB approval to enable sampling, screening, and survey implementation.

Estimated Annualized Burden Table
Type of respondent | Form name | Number of respondents | Number responses per respondent | Average burden per response (in hours) | Total burden (in hours)
Medical Secretary | Screener | 1,300 | 1 | 5/60 | 108
Physician | Survey | 600 | 1 | 20/60 | 200
Total |  |  |  |  | 308

Keith A. Tucker,
Office of the Secretary, Paperwork Reduction Act Clearance Officer.

[FR Doc. 2012-13396 Filed 6-1-12; 8:45 am]

BILLING CODE 4150-33-P